DEPARTMENT OF AGRICULTURE

Food and Nutrition Service

National Advisory Council on Maternal, Infant and Fetal Nutrition; Notice of Meeting

AGENCY: Food and Nutrition Service, USDA.

ACTION: Notice of meeting.

SUMMARY: Pursuant to the Federal Advisory Committee Act, 5 U.S.C. APP., this notice announces a meeting of the National Advisory Council on Maternal, Infant and Fetal Nutrition.

Date and Time: July 21-23, 2015, 9:00 a.m.-5:30 p.m.

Place: The meeting will be held at the Hilton Garden Inn Arlington/Shirlington, Environment Room, 4271 Campbell Avenue, Arlington, Virginia, 22206.

SUPPLEMENTARY INFORMATION: The National Advisory Council on Maternal, Infant and Fetal Nutrition will meet to continue its study of the Special Supplemental Nutrition Program for Women, Infants and Children (WIC), and the Commodity Supplemental Food Program (CSFP). The agenda will include updates and a discussion of Breastfeeding Promotion and Support activities, the WIC food packages, WIC funding, Electronic Benefits Transfer, CSFP initiatives, and current research studies.

Status: Meetings of the National Advisory Council on Maternal, Infant and Fetal Nutrition are open to the public. Members of the public may participate, as time permits. Members of the public may file written statements with the contact person named below before or after the meeting.

Contact Person for Additional Information: Anne Bartholomew, Supplemental Food Programs Division, Food and Nutrition Service, Department of Agriculture, (703) 305-2746. If members of the public need special accommodations, please notify Anne Bartholomew by July 8, 2015, at (703) 305-2746, or email at WICHQ-SFPD@fns.usda.gov.

Dated: June 15, 2015.
Audrey Rowe,
Administrator.

[FR Doc. 2015-16291 Filed 7-1-15; 8:45 am]

BILLING CODE 3410-30-P